COMMITTEE FOR PURCHASE FROM PEOPLE WHO ARE BLIND OR SEVERELY DISABLED

Procurement List, Proposed Additions and Deletions

AGENCY: Committee for Purchase From People Who Are Blind or Severely Disabled.

ACTION: Proposed additions to and deletions from the Procurement List.

SUMMARY: The Committee is proposing to add a product and services to the Procurement List that will be furnished by nonprofit agencies employing persons who are blind or have other severe disabilities, and deletes products previously furnished by such agencies.

Comments Must Be Received On or Before: 3/18/2013.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or email CMTEFedReg@AbilityOne.gov.

SUPPLEMENTARY INFORMATION: This notice is published pursuant to 41 USC 8503 (a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

NSN: 7045-00-NIB-0393—Privacy Filter, LCD Monitor, 16:9 Aspect Ratio, 24 Widescreen.

NPA: Wiscraft, Inc., Milwaukee, WI.

Contracting Activity: General Services Administration, New York, NY.

Coverage: A-List for the Total Government Requirement as aggregated by the General Services Administration.

Services

Service Type/Locations: Custodial Service, Danville Courthouse, 700 Main Street, Danville, VA.

Norfolk Federal Building, 200 Granby St. Norfolk, VA.

NPA: Portco, Inc., Portsmouth, VA.

Contracting Activity: Public Buildings Service, GSA/PBS/R03 South Service Center, Philadelphia, PA.

Service Type/Locations: Janitorial Service, National Center for Cool and Cold Water Aquaculture, 11861 Leetown Road, Kearneysville, WV.

Appalachian Fruit Research Station, 2217 Wiltshire Road, Kearneysville, WV.

NPA: NW Works, Inc., Winchester, VA.

Contracting Activity: DEPT OF AGRICULTURE, AGRICULTURAL RESEARCH SERVICE, USDA ARS NAA 349B, Kearneysville, WV.

Service Type/Location: Warehouse Operation Service, National Labor Relations Board HQ, 1099 14th Street, NW., Washington, DC.

NPA: Linden Resources, Inc., Arlington, VA.

Contracting Activity: NATIONAL LABOR RELATIONS BOARD, WASHINGTON, DC.

Service Type/Location: Custodial Service, Elizabeth Kee Federal Building, 601 Federal Street, Bluefield, WV.

NPA: Integrated Resources, Inc., Maben, WV.

Contracting Activity: Public Buildings Service, GSA/PBS/R03 Charleston, Roanoke, Huntington, Elkins & Parkersburg FO, Charleston, WV.

Deletions

The following products are proposed for deletion from the Procurement List:

Products

Card, Index

NSN: 7530-00-238-4316

NPA: Louisiana Association for the Blind, Shreveport, LA.

Contracting Activity: General Services Administration, New York, NY.

Pen, Retractable, Cushion Grip, Gel Ink, Dignitary

NSN: 7520-01-510-7490.

NSN: 7520-01-510-7491.

Refill, Dignitary Gel Ink Pen

NSN: 7510-01-510-8416.

NSN: 7510-01-510-7493.

NPA: Industries of the Blind, Inc., Greensboro, NC.

Contracting Activity: General Services Administration, New York, NY.

Barry S. Lineback,
Director, Business Operations.

[FR Doc. 2013-03589 Filed 2-14-13; 8:45 am]

BILLING CODE 6353-01-P